DEPARTMENT OF TRANSPORTATION

Federal Transit Administration

Intent To Prepare an Environmental Impact Statement for Increased Transit Service to King of Prussia, PA

AGENCY: Federal Transit Administration (FTA), DOT.

ACTION: Notice of Intent (NOI) to prepare an Environmental Impact Statement and Section 4(f) Evaluation.

SUMMARY: The FTA and the Southeastern Pennsylvania Transportation Authority (SEPTA) are planning to prepare an Environmental Impact Statement (EIS) and Section 4(f) Evaluation for increased transit service to King of Prussia, PA. The EIS will be prepared in accordance with regulations implementing the National Environmental Policy Act (NEPA), as well as FTA's regulations and guidance for implementing NEPA (40 CFR 1501.2 through 8 and 23 CFR 771.111). FTA is issuing this notice to solicit public and agency input regarding the scope of the EIS and to advise the public and agencies that outreach activities conducted by SEPTA and its representatives will be considered in the preparation of the EIS. SEPTA is undertaking this Draft EIS under current FTA regulations and guidance. SEPTA has indicated that it intends to seek FTA New Starts funding.

DATES: An Agency Scoping Meeting will be held on Tuesday, July 16, 2013 at 10:00 a.m., at the Radisson Hotel at the Valley Forge Casino Resort, South Ballroom, 1160 First Avenue, King of Prussia, PA, 19406. Persons should enter the hotel entrance to reach the South Ballroom. Representatives from federal, state, regional, tribal, and local agencies that may have an interest in the project will be invited to serve as either participating or cooperating agencies. A Public Scoping Meeting will be held on Tuesday, July 16, 2013 from 4:00 to 8:00 p.m. at the Radisson Hotel at the Valley Forge Casino Resort, 1160 First Avenue, King of Prussia, PA, 19406. Persons should enter the hotel entrance to reach the South Ballroom. An informational presentation explaining the proposed project will be held at 6:00 p.m. All persons are invited to provide oral comments on the scope of the EIS throughout the Scoping Meeting. Individuals wishing to speak are required to register as they sign in. Anyone needing special assistance should contact Mr. John Mullen, Outreach Coordinator at (215) 592-4200 or via email at info@kingofprussiarail.com, in advance of the meeting. Spanish and sign language interpreters will be available at the Public Scoping Meeting.

Written comments on the scope of the EIS, including the project's purpose and need, the alternatives to be considered, and the impacts to be evaluated should be sent on or before August 14, 2013 via mail, fax or email to: Mr. Sheldon Fialkoff, Project Manager, AECOM, 1700 Market Street, Suite 1600, Philadelphia, PA 19103, 215-735-0883 (fax), Shelly.Fialkoff@aecom.com.

Written comments regarding the scope of the EIS can also be made via the project's Web site at www.kingofprussiarail.com on or before August 14, 2013.

FOR FURTHER INFORMATION CONTACT: Mr. Tony Cho, Community Planner, Federal Transit Administration, 1760 Market Street, Suite 500, Philadelphia, PA 19103, (215) 656-7250; or Mr. Byron Comati, Project Director, SEPTA, 1234 Market Street, 9th Floor, Philadelphia, PA 19107, (215) 580-3781. Additional project information and scoping materials will be available at the meetings and on the project Web site (http://www.kingofprussiarail.com).

SUPPLEMENTARY INFORMATION:

Scoping

FTA and SEPTA will undertake a scoping process that will allow the public and interested agencies to comment on the scope of the environmental review process. Scoping is the process of determining the scope, focus, and content of an EIS. NEPA scoping has specific objectives, identifying the significant issues that will be examined in detail during the EIS, while simultaneously limiting consideration and development of issues that are not truly significant. FTA and SEPTA invite all interested individuals and organizations, public agencies, and Native American tribes to comment on the scope of the Draft EIS. To facilitate public and agency comment, a Draft Scoping Document will be prepared for review and will be available at the meeting. Included in this document will be draft descriptions of the purpose and need for the project; the alternatives proposed; the impacts to be assessed; early alternatives that are currently not being considered; and the public outreach and agency coordination process.

Description of Study Area and Proposed Project

The Norristown High Speed Line (NHSL) currently provides passenger rail service between the 69th Street Transportation Center (in Upper Darby) and the Norristown Transportation Center (in the Municipality of Norristown), serving the Main Line area in Delaware and Montgomery Counties, Pennsylvania. At the 69th Street Transportation Center, connections can be made to Center City Philadelphia via SEPTA's Market-Frankford Line, SEPTA's Route 101 and 102 Trolleys, and 18 SEPTA bus routes. Besides service to Norristown, Upper Darby and on to Philadelphia, the NHSL serves a number of important origins and destinations along its line such as Haverford College, Bryn Mawr College, Villanova University, Eastern University, Cabrini College, Rosemont College, as well as Bryn Mawr Hospital.

Even though the NHSL passes through Upper Merion Township, which includes the King of Prussia area, the rail line runs about two to three miles east of many major activity centers in the area, including the King of Prussia Mall. Reaching the King of Prussia area from the NHSL currently requires a transfer to bus service. Six SEPTA bus routes serve the area and ridership has been increasing over the past several years. The area is at the confluence of several major highways; the Pennsylvania Turnpike, I-76 (Schuylkill Expressway), Route 422, and Route 202. These highways suffer from growing congestion and delays; bus travel on these roadways is subject to the same congestion and delays.

In addition to the King of Prussia Mall, the study area encompasses other major destinations that are focal points of employment density, residential density, and/or trip attractions. The study area is bounded roughly by the Schuylkill River, Route 422, I-76 (Schuylkill Expressway) and the existing NHSL. The study area has a large amount of commercial activity, including business, hotel and light industrial warehouse uses and is home to employers such as Lockheed Martin, GSI and Arkema. Additionally, the study area contains the Valley Forge Convention Center and Casino Resort and Valley Forge National Historical Park, which are regional destinations.

Project Background

The concept of providing improved transit access to the King of Prussia and Valley Forge areas dates back many years. A deficiency in rail transit services to the study area has been identified in various forms for more than 20 years in regional transportation studies and in Upper Merion Township's adopted Land Use Plan. In 2003, SEPTA completed the Route 100 Extension Draft Alternatives Analysis (AA). This study, conducted in accordance with FTA guidelines, identified a full range of alternatives, screened alternatives and evaluated the feasibility and costs of alternatives to extend the NHSL to the study area. The study identified and evaluated four different alignments between the NHSL and the King of Prussia Mall, and it identified a feasible alignment beyond the mall. The study was coordinated with other studies then occurring for SEPTA's proposed Cross-County Metro and Schuylkill Valley Metro services. Copies of these previous studies are available at SEPTA, 1234 Market Street, 9th Floor, Philadelphia, PA 19107, (215) 580-7919 or (215) 580-3781.

Purpose of and Need for the Proposed Project

The purpose of the proposed project is to provide a faster, more reliable public transit service that offers improved transit connections to the King of Prussia/Valley Forge area from communities along the existing Norristown High Speed Line, Norristown and Philadelphia; improve connectivity between major destinations within the King of Prussia/Valley Forge area; better serve existing transit riders; and accommodate new transit patrons. The project need stems from deficiencies of current transit services in terms of long travel times, delays due to roadway congestion, required transfers leading to two or more seat trips, and destinations underserved, or currently not served, by public transit. These needs are strengthened by growing travel demands in the King of Prussia and Valley Forge areas generated by existing and future economic development opportunities.

Proposed Alternatives

The Draft EIS will evaluate various alternative transit alignments to make the connection between the NHSL and destinations in King of Prussia. The preliminary list of alternatives to be considered in the Draft EIS will include the following No Build Alternative and various Build Alternatives:

• No Build Alternative: Represents future conditions in the EIS analysis year of 2040 without the proposed project. The No Build Alternative includes the existing transit and transportation system in the region plus all projects in the region's fiscally constrained long range transportation plan. The No Build Alternative is included in the Draft EIS as a means of comparing and evaluating the impacts and benefits of the Build Alternatives.

• Build Alternatives: The Build Alternatives are based on an initial feasibility analysis. Build Alternatives will include alternative transit alignments, station locations, and design configurations that could meet the project's purpose and need. The range of Build Alternatives will include those reasonable alternatives uncovered during public scoping and are to be the outcome of a tiered screening and alternatives definition process that will primarily use existing transportation or utility rights of way. These rights of way include elevated rail service along a PECO energy alignment, alignments along Route 202 and Interstate 276, as well as alignments along inactive freight rail tracks and other public streets north of the King of Prussia Mall. The full range of alternatives will be subjected to this tiered screening and alternatives definition process in order to arrive at the subset of the most reasonable Build Alternatives that will undergo detailed study and evaluation within the DEIS.

• No bus alternatives on existing travel lanes will be studied in the DEIS because SEPTA already provides 6 different bus routes to the King of Prussia/Valley Forge areas, including express bus service from Center City Philadelphia. Given the study area's extensive road congestion, additional bus service is not a feasible alternative. Bus riders are subject to the same congestion delays as motorists, as buses share the roadway travel lanes. In particular, increased or improved bus service is not feasible on I-76, the primary highway corridor from Center City Philadelphia, because of high levels of congestion and limitations of the terrain do not allow for additional lane capacity. For example, two of the current SEPTA bus routes, which run the longest distance on I-76, have the lowest cumulative on-time performance in the entire SEPTA bus system.

Probable Effects

FTA and SEPTA will evaluate project-specific direct, indirect, and cumulative effects to the existing physical, social, economic, and environmental setting in which the Build Alternatives could be located. The permanent, long-term effects to the region could include effects to traffic and transportation, land use and socio-economics, visual character and aesthetics, noise and vibration, historical and archaeological resources, community impacts, and natural resources. Temporary impacts during construction of the project could include effects to transportation patterns, air quality, noise and vibration, natural resources, and contaminated and hazardous materials. The analysis will be undertaken in conformity with all Federal environmental laws, regulations, and executive orders applicable to the proposed project during the environmental review process to the maximum extent practicable. These requirements include, but are not limited to NEPA, Council on Environmental Quality regulations, FTA guidance and relevant environmental guidelines, Section 106 of the National Historic Preservation Act, Section 4(f) of the Department of Transportation Act, Executive Order 12898 regarding minority and low-income populations, Executive Order 11990 regarding the protection of wetlands, the Clean Water Act, the Endangered Species Act of 1973, and the Clean Air Act of 1970, along with other applicable Federal and State regulations. Opportunities for comment on the potential effects will be provided to the public and agencies, and comments received will be considered in the development of the final scope and content of the EIS.

Public and Agency Involvement Procedures

The regulations implementing NEPA and FTA guidance call for public involvement in the EIS process. In accordance with these regulations and guidance, FTA/SEPTA will:

(1) Extend an invitation to other Federal and non-Federal agencies and Native American Tribes that may have an interest in the proposed project to become participating agencies (any interested agency that does not receive an invitation can notify any of the contact persons listed earlier in this NOI);

(2) Provide opportunity for involvement by participating agencies and the public to help define the purpose and need for the proposed project, as well as the range of alternatives for consideration in the EIS; and

(3) Establish a plan for coordinating public and agency participation in, and comment on, the environmental review process.

Input on a Public Involvement Plan and Agency Coordination Plan will be solicited at the scoping meeting and on the Web site. The documents will outline public and agency involvement for the project. Once completed, these documents will be available on the project Web site or through written request.

The Paperwork Reduction Act

The Paperwork Reduction Act seeks, in part, to minimize the cost to the taxpayer of the creation, collection, maintenance, use, dissemination, and disposition of information. Consistent with this goal and with principles of economy and efficiency in government, it is FTA policy to limit, insofar as possible, distribution of complete printed sets of NEPA documents. Accordingly, unless a specific request for a complete printed set of the NEPA document is received before the document is printed, FTA and its grant applicants will distribute only electronic copies of the NEPA document. A complete printed set of the environmental document will be available for review at the grant applicant's offices and elsewhere; an electronic copy of the complete environmental document will be available on the grant applicant's project Web site, http://www.kingofprussiarail.com.

Summary/Next Steps

With the publication of this NOI, the scoping process and the public comment period for the project begins, allowing the public to offer input on the scope of the EIS until August 14, 2013. Public comments will be received through those methods explained earlier in this NOI and will be incorporated into a Final Scoping Document. This document will detail the scope of the EIS and the potential environmental effects that will be considered during the study period. After the completion of the Draft EIS, another public comment period will allow for input on the Draft EIS, and these comments will be incorporated into the Final EIS report prior to publication.

Issued on: June 21, 2013.
Reginald B. Lovelace,
Deputy Regional Administrator, FTA Region 3.

[FR Doc. 2013-15411 Filed 6-26-13; 8:45 am]

BILLING CODE P